DEPARTMENT OF HEALTH AND HUMAN SERVICES

Health Resources and Services Administration

Nursing Workforce Diversity Invitational Summit—“Nursing in 3D: Workforce Diversity, Health Disparities, and Social Determinants of Health”

AGENCY: Department of Health and Human Services, Health Resources and Services Administration (HRSA).

ACTION: Notice of meeting.

SUMMARY: HRSA's Bureau of Health Professions, Division of Nursing, will host an invitational summit that focuses on Nursing Workforce Diversity (NWD), Health Disparities, and the Social Determinants of Health. The goal of this summit is to convene experts, thought leaders, and key workforce diversity stakeholders to identify the full range of academic and health system factors, as well as the social, economic, political, and environmental determinants that influence our ability to diversify the nursing workforce. The goal of the summit is to utilize the social determinants of health frameworks to examine the impact of workforce diversity on health disparities. These activities will inform a broader and formal evaluation of the NWD program.

DATES: Meetings will be held from 7:30 a.m. to 5:00 p.m. on August 16, 2012, and from 8:00 a.m. to 1:00 p.m. on August 17, 2012.

ADDRESSES: Meetings will be held at the Bethesda North Marriott Hotel & Conference Center, 5701 Marinelli Road, Bethesda, Maryland 20852.

FOR FURTHER INFORMATION CONTACT: For more information, please contact Kristen Hansen, MHSA, RN, NE-BC, Nurse Consultant, Nursing Practice and Workforce Development Branch, Division of Nursing, Bureau of Health Professions, Health Resources and Services Administration, 5600 Fishers Lane, Parklawn Building, Room 9-61, Rockville, MD 20857; telephone: 301.443.2796; email: KHansen@hrsa.gov

SUPPLEMENTARY INFORMATION: Status: The summit will be open to the public. Seating is on a first-come, first-serve basis.

Purpose: The purpose of the summit is to identify the full range of academic and health system factors, as well as the social, economic, political, and economic determinants that influence our ability to diversify the nursing workforce. The goal of the summit is to utilize the social determinants of health framework to examine the impact of workforce diversity on health disparities.

Agenda: The summit dates are Thursday and Friday, August 16-17, 2012. The agenda will include presentations from experts on Nursing Workforce Diversity, Health Disparities, and Social Determinants of Health. Panel discussions will address ways to integrate the concepts of workforce diversity, health disparities, and social determinants of health into an innovative HRSA grant portfolio.

Requests from the public to make oral comments or to provide written comments to the Committee should be sent to Kristen Hansen, at the contact address above, at least 10 business days prior August 16, 2012. The summit will be open to the public as indicated above, but registration must be completed and attendance will be limited to the space available. Individuals who plan to attend and need special assistance, such as sign language interpretation or other reasonable accommodations, should notify the contact person listed above at least 10 business days prior to August 16, 2012.

Dated: June 12, 2012.
Mary K. Wakefield,
Administrator, Health Resources and Services Administration.

[FR Doc. 2012-14823 Filed 6-18-12; 8:45 am]

BILLING CODE 4165-15-P